DEPARTMENT OF ENERGY

Federal Energy Regulatory Commission

Combined Notice of Filings #1

Take notice that the Commission received the following electric corporate filings:

Docket Numbers: EC23-92-000.

Applicants: Midway-Sunset Cogeneration Company.

Description: Application for Authorization Under Section 203 of the Federal Power Act of Midway-Sunset Cogeneration Company.

Filed Date: 5/30/23.

Accession Number: 20230530-5315.

Comment Date: 5 p.m. ET 7/31/23.

Take notice that the Commission received the following electric rate filings:

Docket Numbers: ER23-974-001.

Applicants: Niagara Mohawk Power Corporation.

Description: Tariff Amendment: 2023-05-30 Deficiency Letter Response in Docket No. ER93-974 to be effective 4/1/2023.

Filed Date: 5/30/23.

Accession Number: 20230530-5279.

Comment Date: 5 p.m. ET 6/20/23.

Docket Numbers: ER23-1214-001.

Applicants: Stones DR, LLC.

Description: Tariff Amendment: Response to Request for Additional Information to be effective 3/3/2023.

Filed Date: 5/31/23.

Accession Number: 20230531-5207.

Comment Date: 5 p.m. ET 6/21/23.

Docket Numbers: ER23-1703-001.

Applicants: Stanton Battery Energy Storage, LLC.

Description: Tariff Amendment: Amendment to MBR Application for Market Based Rate Authority to be effective 6/5/2023.

Filed Date: 5/31/23.

Accession Number: 20230531-5055.

Comment Date: 5 p.m. ET 6/21/23.

Docket Numbers: ER23-1998-000.

Applicants: PJM Interconnection, L.L.C.

Description: Tariff Amendment: Notice of Cancellation of ISA, SA No. 6016, Queue No. B02 to be effective 5/31/2023.

Filed Date: 5/30/23.

Accession Number: 20230530-5217.

Comment Date: 5 p.m. ET 6/20/23.

Docket Numbers: ER23-1999-000.

Applicants: PJM Interconnection, L.L.C.

Description: Tariff Amendment: Notice of Cancellation of ISA, SA No. 4124 to be effective 5/31/2023.

Filed Date: 5/30/23.

Accession Number: 20230530-5225.

Comment Date: 5 p.m. ET 6/20/23.

Docket Numbers: ER23-2000-000.

Applicants: PJM Interconnection, L.L.C.

Description: Tariff Amendment: Notice of Cancellation of ISA, SA No. 4120 to be effective 6/1/2023.

Filed Date: 5/30/23.

Accession Number: 20230530-5236.

Comment Date: 5 p.m. ET 6/20/23.

Docket Numbers: ER23-2001-000.

Applicants: Sagebrush ESS II, LLC.

Description: Baseline eTariff Filing: Market-Based Rate Application and Request for Expedited Action to be effective 7/30/2023.

Filed Date: 5/30/23.

Accession Number: 20230530-5242.

Comment Date: 5 p.m. ET 6/20/23.

Docket Numbers: ER23-2002-000.

Applicants: Southwestern Electric Power Company.

Description: § 205(d) Rate Filing: RS 127 Prescott Addendum to be effective 5/31/2023.

Filed Date: 5/30/23.

Accession Number: 20230530-5250.

Comment Date: 5 p.m. ET 6/20/23.

Docket Numbers: ER23-2003-000.

Applicants: Invenergy Nelson Expansion LLC.

Description: Initial rate filing: Filing of Reactive Power Rate Schedule to be effective 7/1/2023.

Filed Date: 5/31/23.

Accession Number: 20230531-5048.

Comment Date: 5 p.m. ET 6/21/23.

Docket Numbers: ER23-2004-000.

Applicants: New York State Electric & Gas Corporation, New York Independent System Operator, Inc.

Description: § 205(d) Rate Filing: New York State Electric & Gas Corporation submits tariff filing per 35.13(a)(2)(iii: NYISO-NYSEG Joint 205: SGIA Clear View Solar Project (CEII) to be effective 5/16/2023.

Filed Date: 5/31/23.

Accession Number: 20230531-5079.

Comment Date: 5 p.m. ET 6/21/23.

Docket Numbers: ER23-2005-000.

Applicants: Baconton Power LLC.

Description: Initial rate filing: Initial Rate Schedule FERC No. 2 to be effective 2/8/2023.

Filed Date: 5/31/23.

Accession Number: 20230531-5106.

Comment Date: 5 p.m. ET 6/21/23.

Docket Numbers: ER23-2006-000.

Applicants: Baconton Power LLC.

Description: Tariff Amendment: Notice of Cancellation of FERC Rate Schedule No. 2 to be effective 5/25/2023.

Filed Date: 5/31/23.

Accession Number: 20230531-5157.

Comment Date: 5 p.m. ET 6/21/23.

Docket Numbers: ER23-2007-000.

Applicants: Southwest Power Pool, Inc.

Description: § 205(d) Rate Filing: Cost Recovery Filing on Behalf of Sunflower Electric Power Corporation to be effective 1/1/2024.

Filed Date: 5/31/23.

Accession Number: 20230531-5158.

Comment Date: 5 p.m. ET 6/21/23.

Docket Numbers: ER23-2008-000.

Applicants: Alabama Power Company, Georgia Power Company, Mississippi Power Company.

Description: Initial rate filing: Alabama Power Company submits tariff filing per 35.12: Sparkleberry Solar Energy Center Affected System Upgrade Agreement Filing to be effective 5/16/2023.

Filed Date: 5/31/23.

Accession Number: 20230531-5169.

Comment Date: 5 p.m. ET 6/21/23.

Docket Numbers: ER23-2009-000.

Applicants: Georgia Power Company.

Description: Initial rate filing: Sparkleberry Solar Affected System Upgrade Agreement Concurrence Filing to be effective 5/16/2023.

Filed Date: 5/31/23.

Accession Number: 20230531-5171.

Comment Date: 5 p.m. ET 6/21/23.

Docket Numbers: ER23-2010-000.

Applicants: Mississippi Power Company.

Description: Initial rate filing: Sparkleberry Solar Affected System Upgrade Agreement Concurrence Filing to be effective 5/16/2023.

Filed Date: 5/31/23.

Accession Number: 20230531-5173.

Comment Date: 5 p.m. ET 6/21/23.

Docket Numbers: ER23-2011-000.

Applicants: Tri-State Generation and Transmission Association, Inc.

Description: § 205(d) Rate Filing: Amendment to Rate Schedule FERC No. 43 to be effective 7/31/2023.

Filed Date: 5/31/23.

Accession Number: 20230531-5203.

Comment Date: 5 p.m. ET 6/21/23.

Docket Numbers: ER23-2012-000.

Applicants: DTE Electric Company.

Description: § 205(d) Rate Filing: DTE Electric Compliance Filing to be effective 4/1/2023.

Filed Date: 5/31/23.

Accession Number: 20230531-5223.

Comment Date: 5 p.m. ET 6/21/23.

Docket Numbers: ER23-2013-000.

Applicants: Baconton Power LLC.

Description: Tariff Amendment: Notice of Cancellation of Rate Schedule 1—MBR Tariff to be effective 5/31/2023.

Filed Date: 5/31/23.

Accession Number: 20230531-5245.

Comment Date: 5 p.m. ET 6/21/23.

Docket Numbers: ER23-2014-000.

Applicants: Northern Indiana Public Service Company LLC.

Description: § 205(d) Rate Filing: St John South CIAC to be effective 5/4/2023.

Filed Date: 5/31/23.

Accession Number: 20230531-5256.

Comment Date: 5 p.m. ET 6/21/23.

Docket Numbers: ER23-2015-000.

Applicants: Crete Energy Venture, LLC.

Description: § 205(d) Rate Filing: Filing of Certificate of Concurrence to SFUA to be effective 12/31/9998.

Filed Date: 5/31/23.

Accession Number: 20230531-5270.

Comment Date: 5 p.m. ET 6/21/23.

Docket Numbers: ER23-2016-000.

Applicants: Lincoln Generating Facility, LLC.

Description: § 205(d) Rate Filing: Filing of Certificate of Concurrence with SFUA to be effective 12/31/9998.

Filed Date: 5/31/23.

Accession Number: 20230531-5277.

Comment Date: 5 p.m. ET 6/21/23.

Docket Numbers: ER23-2017-000.

Applicants: Gibson City Energy Center, LLC.

Description: § 205(d) Rate Filing: Filing of Certificate of Concurrence to SFUA to be effective 12/31/9998.

Filed Date: 5/31/23.

Accession Number: 20230531-5286.

Comment Date: 5 p.m. ET 6/21/23.

Docket Numbers: ER23-2018-000.

Applicants: Shelby County Energy Center, LLC.

Description: § 205(d) Rate Filing: Filing of Certificate of Concurrence to SFUA to be effective 12/31/9998.

Filed Date: 5/31/23.

Accession Number: 20230531-5287.

Comment Date: 5 p.m. ET 6/21/23.

Docket Numbers: ER23-2019-000.

Applicants: Tilton Energy LLC.

Description: § 205(d) Rate Filing: Filing of Certificate of Concurrence to SFUA to be effective 12/31/9998.

Filed Date: 5/31/23.

Accession Number: 20230531-5295.

Comment Date: 5 p.m. ET 6/21/23.

Docket Numbers: ER23-2020-000.

Applicants: California Independent System Operator Corporation.

Description: § 205(d) Rate Filing: 2023-05-31 Market Parameters Enhancements to be effective 12/31/9998.

Filed Date: 5/31/23.

Accession Number: 20230531-5296.

Comment Date: 5 p.m. ET 6/21/23.

Docket Numbers: ER23-2021-000.

Applicants: Consolidated Edison Company of New York, Inc.

Description: § 205(d) Rate Filing: Modification Bulk Solicitation to be effective 6/1/2023.

Filed Date: 5/31/23.

Accession Number: 20230531-5298.

Comment Date: 5 p.m. ET 6/21/23.

Docket Numbers: ER23-2022-000.

Applicants: PJM Interconnection, L.L.C.

Description: Tariff Amendment: Notice of Cancellation of ISA, SA No. 2382 to be effective 6/1/2023.

Filed Date: 5/31/23.

Accession Number: 20230531-5301.

Comment Date: 5 p.m. ET 6/21/23.

Docket Numbers: ER23-2023-000.

Applicants: Buckeye Power, Inc., PJM Interconnection, L.L.C.

Description: § 205(d) Rate Filing: Buckeye Power, Inc. submits tariff filing per 35.13(a)(2)(iii: Revised SA No. 4753—NITSA Among PJM and Buckeye Power, Inc. to be effective 6/1/2023.

Filed Date: 5/31/23.

Accession Number: 20230531-5302.

Comment Date: 5 p.m. ET 6/21/23.

Docket Numbers: ER23-2024-000.

Applicants: PJM Interconnection, L.L.C.

Description: Tariff Amendment: Notice of Cancellation of ISA, SA No. 4123 to be effective 6/1/2023.

Filed Date: 5/31/23.

Accession Number: 20230531-5304.

Comment Date: 5 p.m. ET 6/21/23.

Docket Numbers: ER23-2025-000.

Applicants: New England Power Pool Participants Committee.

Description: § 205(d) Rate Filing: Jun 2023 Membership Filing to be effective 5/1/2023.

Filed Date: 5/31/23.

Accession Number: 20230531-5305.

Comment Date: 5 p.m. ET 6/21/23.

Docket Numbers: ER23-2026-000.

Applicants: Michigan Electric Transmission Company, LLC.

Description: § 205(d) Rate Filing: Amended and Restated—Blendon IFA to be effective 7/31/2023.

Filed Date: 5/31/23.

Accession Number: 20230531-5306.

Comment Date: 5 p.m. ET 6/21/23.

Take notice that the Commission received the following electric reliability filings:

Docket Numbers: RR23-2-000.

Applicants: North American Electric Reliability Corporation.

Description: North American Electric Reliability Corporation's Report of Comparisons of Budgeted to Actual Costs for 2022 for NERC and the Regional Entities.

Filed Date: 5/31/23.

Accession Number: 20230531-5120.

Comment Date: 5 p.m. ET 6/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2023.
Debbie-Anne A. Reese,
Deputy Secretary.

[FR Doc. 2023-12034 Filed 6-5-23; 8:45 am]

BILLING CODE 6717-01-P